DEPARTMENT OF TRANSPORTATION

Federal Railroad Administration

[Docket Number FRA-2016-0086]

Petition for Extension of Waiver of Compliance

Under part 211 of title 49 Code of Federal Regulations (CFR), this document provides the public notice that by letter received June 3, 2024, BNSF Railway Company (BNSF) petitioned the Federal Railroad Administration (FRA) to extend the existing test waiver of compliance in Docket Number FRA-2016-0086. The existing relief in this docket provides BNSF, CSX Transportation (CSX), and Kansas City Southern Railway (now known as CPKC) conditional relief from certain provisions of the Federal railroad safety regulations contained at 49 CFR parts 232 (Brake System Safety Standards for Freight and Other Non-Passenger Trains and Equipment; End-Of-Train Devices), and 229 (Railroad Locomotive Safety Standards). Specifically, the existing relief allows the railroads to test extending the air flow method (AFM) test intervals from 92 days to 184 days on locomotives equipped with the New York Air Brake (NYAB) CCB-II and Fastbrake air brake systems.

In support of its request, BNSF states that “throughout the life of th[e] waiver, the data collected and reported to the FRA has conclusively established that the AFM indicator can successfully and safely maintain calibration setting for a period of at least 184 days,” citing that in a period measured from June to December 2023, “98% of BNSF's AFM indicators have tested as in-calibration at the 184-day mark.” BNSF also notes that the relief “has crucially enabled alignment between the AFM indicator-calibration interval and the interval for federally mandated periodic locomotive inspections,” as well as additional safety benefits described in the request.

In this petition, BNSF notes that it also seeks to transition this waiver to a permanent waiver in the future, but at this time, is requesting a five-year extension.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by October 7, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2024-17565 Filed 8-7-24; 8:45 am]

BILLING CODE 4910-06-P